ENVIRONMENTAL PROTECTION AGENCY

[FRL-6980-1]

Agency Information Collection Activities; Submission of EPA ICR No. 1365.06 to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Asbestos-Containing Materials in Schools Rule and Revised Asbestos Model Accreditation Plan Rule (EPA ICR No. 1365.06; OMB Control No. 2070-0091). The ICR, which is abstracted below, describes the nature of the information collection and its estimated cost and burden. The Federal Register document required under 5 CFR 1320.8(d), soliciting comments on this collection of information, was published on October 20, 2000 (65 FR 63071). EPA received no comments on this ICR during the comment period.

DATES: Additional comments may be submitted on or before June 18, 2001.

FOR FURTHER INFORMATION CONTACT: Sandy Farmer at EPA by phone on (202) 260-2740, by e-mail: “farmer.sandy@epamail.epa.gov,” or download off the Internet at http://www.epa.gov/icr/icr.htm and refer to EPA ICR No. 1365.06 and/or OMB Control No. 2070-0091.

ADDRESSES: Send comments, referencing EPA ICR No. 1365.06 and OMB Control No. 2070-0091, to the following addresses: Sandy Farmer, U.S. Environmental Protection Agency, Collection Strategies Division (Mail Code: 2822), 1200 Pennsylvania Avenue, NW., Washington, DC 20460; and to: Office of Information and Regulatory Affairs, Office of Management and Budget (OMB), Attention: Desk Officer for EPA, 725 17th Street, NW., Washington, DC 20503.

SUPPLEMENTARY INFORMATION: Title: Asbestos-Containing Materials in Schools Rule and Revised Asbestos Model Accreditation Plan Rule (OMB Control No. 2070-0091; EPA ICR No. 1365.06). This is a request for extension of an existing approved collection that is currently scheduled to expire on May 31, 2001. Under 5 CFR 1320.10(e)(2), the Agency may continue to conduct or sponsor the collection of information while the submission is pending at OMB.

Abstract: The Asbestos Hazard Emergency Response Act (AHERA) requires local education agencies (LEAs) to conduct inspections, develop management plans, and design or conduct response actions with respect to the presence of asbestos-containing materials in school buildings. AHERA also requires states to develop model accreditation plans for persons who perform asbestos inspections, develop management control plans, and design or conduct response actions. This information collection addresses the burden associated with recordkeeping requirements imposed on LEAs by the asbestos in schools rule, and reporting and recordkeeping requirements imposed on states and training providers related to the model accreditation plan rule.

Responses to the collection of information are mandatory (see 40 CFR part 763, subpart E). Respondents may claim all or part of a notice confidential. EPA will disclose information that is covered by a claim of confidentiality only to the extent permitted by, and in accordance with, the procedures in TSCA section 14 and 40 CFR part 2. An agency may not conduct or sponsor, and a person is not required to respond to, a collection of information unless it displays a currently valid OMB control number. The OMB control numbers for EPA's regulations are listed in 40 CFR part 9 and 48 CFR chapter 15.

Burden Statement: The annual public reporting burden for this collection of information is estimated to range between 5.5 hours and 140 hours per response, depending upon the category of respondent. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Local education agencies (e.g., elementary or secondary school districts); asbestos training providers to schools and educational systems; state education departments or commissions; or public health programs.

Frequency of Collection: On occasion.

Estimated No. of Respondents: 107,759.

Estimated Total Annual Burden on Respondents: 2,212,151 hours.

Estimated Total Annual Costs: $58,860,737.

Changes in Burden Estimates: The total burden associated with this ICR has decreased from 2,367,293 hours in the previous ICR to 2,212,151 hours for this ICR. This adjustment in burden reflects decreases in the estimated number of school buildings containing friable asbestos, offset slightly by an increase in the burden that applies to training providers.

According to the procedures prescribed in 5 CFR 1320.12, EPA has submitted this ICR to OMB for review and approval. Any comments related to the renewal of this ICR should be submitted within 30 days of this notice, as described above.

Dated: May 3, 2001.
Oscar Morales,
Director, Collection Strategies Division.

[FR Doc. 01-12577 Filed 5-17-01; 8:45 am]

BILLING CODE 6560-50-P